SMALL BUSINESS ADMINISTRATION

13 CFR Part 102

RIN 3245-AE94

Disclosure of Information Regulations; Correction

AGENCY: U.S. Small Business Administration.

ACTION: Correcting amendments.

SUMMARY: This document contains corrections to the final regulations which were published in the Federal Register on October 14, 2003, amending the Small Business Administration's Disclosure of Information regulations.

DATES: This correction is effective April 23, 2004.

FOR FURTHER INFORMATION CONTACT: Kitty Higgins, Paralegal Specialist, Freedom of Information/Privacy Acts Office by telephone at (202) 401-8203 or by e-mail at foia@sba.gov. Individuals with disabilities may obtain this document in an alternate format (e.g., Braille, large print, audiotape, or computer diskette) upon request to the contact person listed in the preceding paragraph.

SUPPLEMENTARY INFORMATION:

Background

On October 14, 2003, at 68 FR 59091 the Small Business Administration (SBA) published final amendments to its Disclosure of Information regulations, contained Subpart A of 13 CFR Part 102, implementing the Electronic Freedom of Information Act Amendments of 1996 and setting out the current information disclosure practices and procedures of the agency.

Need for Correction

Since publication of these amendments SBA has discovered that former § 102.12 of Subpart A, which related to the procedures for responding to subpoenas for records or testimony, was inadvertently omitted from the published document. If this section is not reinstated, there will be a critical gap in the regulations containing the procedure for responding to requests for information. The agency is proposing to reinsert former § 102.12 unrevised, as part of Subpart A. The only change required is that the section must be renumbered.

List of Subjects in 13 CFR Part 102

Freedom of Information, Privacy.

Accordingly 13 CFR Part 102, Subpart A is corrected by making the following correcting amendments:

PART 102—RECORD DISCLOSURE AND PRIVACY

1. The authority citation for Part 102 continues to read as follows:

Authority: 5 U.S.C. 552 and 552a; 31 U.S.C. 1 et seq. and 67 et seq.; 44 U.S.C. 3501 et seq.; E.O. 12600, 3 CFR, 1987 Comp., p.235.

2. Add § 102.10 to Subpart A to read as follows:

§ 102.10 What happens if I subpoena records or testimony of employees in connection with a civil lawsuit, criminal proceeding or administrative proceeding to which SBA is not a party?

(a) The person to whom the subpoena is directed must consult with SBA counsel in the relevant SBA office, who will seek approval for compliance from the Associate General Counsel for Litigation. Except where the subpoena requires the testimony of an employee of the Inspector General's office, or records within the possession of the Inspector General, the Associate General Counsel may delegate the authorization for appropriate production of documents or testimony to local SBA counsel.

(b) If SBA counsel approves compliance with the subpoena, SBA will comply.

(c) If SBA counsel disapproves compliance with the subpoena, SBA will not comply, and will base such noncompliance on an appropriate legal basis such as privilege or a statute.

(d) SBA counsel must provide a copy of any subpoena relating to a criminal matter to SBA's Inspector General prior to its return date.

Dated: April 16, 2004.
Delorice Price Ford,
Assistant Administrator for Hearing and Appeals.

[FR Doc. 04-9223 Filed 4-22-04; 8:45 am]

BILLING CODE 8025-01-P